ENVIRONMENTAL PROTECTION AGENCY

[EPA-HQ-OPP-2012-0631; FRL-9361-9]

Agency Information Collection Activities; Proposed Collection; Comment Request

AGENCY: Environmental Protection Agency (EPA).

ACTION: Notice.

SUMMARY: In compliance with the Paperwork Reduction Act (PRA), this document announces that EPA is planning to submit a request for a new Information Collection Request (ICR) to the Office of Management and Budget (OMB). This ICR is entitled: “Pesticide Spray Drift Reduction Technologies,” and identified by EPA ICR No. 2472.01 and OMB Control No. 2070-NEW. Before submitting the ICR to OMB for review and approval, EPA is soliciting comments on specific aspects of the proposed information collection that is summarized in this document. The ICR and accompanying material are available in the docket for public review and comment.

DATES: Comments must be received on or before January 22, 2013.

ADDRESSES: Submit your comments, identified by docket identification (ID) number EPA-HQ-OPP-2012-0631 by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.htm.

Additional instructions on commenting or visiting the docket, along with more information about dockets generally, is available at http://www.epa.gov/dockets.

FOR FURTHER INFORMATION CONTACT: Kathryn Boyle, Field and External Affairs Division, (7506P), Office of Pesticide Programs, Environmental Protection Agency, 1200 Pennsylvania Ave. NW., Washington, DC 20460-0001; telephone number: (703) 305-6304; fax number: (703) 305-5884; email address: boyle.kathryn@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Affected entities: Entities potentially affected by the voluntary collection activities under this ICR include pesticide application equipment manufacturers, chemical manufacturers, pesticide registrants, university researchers, and others who have an interest in reducing spray drift. The North American Industrial Classification System (NAICS) code for the principal respondents is:

Producers of pesticide products | 32532
Crop Production | 111
Research and Development in the Physical, Engineering, Life Sciences | 541710
Colleges, universities, and professional schools | 611310

This listing is not intended to be exhaustive, but rather provides a guide for readers regarding entities likely to be affected by this action.

Title: Pesticide Spray Drift Reduction Technologies.

ICR number: EPA ICR No. 2472.01.

OMB control number: OMB Control No. 2070-NEW.

ICR status: This ICR is for a new information collection activity. An Agency may not conduct or sponsor, and a person is not required to respond to, a collection of information, unless it displays a currently valid OMB control number. The OMB control numbers for EPA's regulations in title 40 of the Code of Federal Regulations (CFR), after appearing in the Federal Register when approved, are listed in 40 CFR part 9, are displayed either by publication in the Federal Register or by other appropriate means, such as on the related collection instrument or form, if applicable. The display of OMB control numbers for certain EPA regulations is consolidated in 40 CFR part 9.

Abstract: EPA intends to initiate a voluntary information collection for research to verify the effectiveness of application technologies for agricultural pesticide sprays that have the potential to significantly reduce pesticide spray drift. The focus of this research is on technologies, including spray nozzles, shrouds and shields, and drift reducing adjuvant chemicals used for aerial or groundboom applications to row and field crops. Collectively these technologies are referred to as drift reduction technologies (DRTs). The voluntary program would encourage the identification and use of DRTs that can substantially reduce drift of pesticide spray droplets from the target application site (e.g., a corn field) downwind to non-target areas. Exposures and adverse effects to humans, wildlife, and crops and other vegetation from pesticide spray drift are well recognized. Published research suggests 1-10% or more of applied agricultural pesticide sprays drift from the target field. EPA believes there are application technologies that have the potential to significantly reduce the amount of spray drift. As these technologies are identified, their drift-reducing potential needs to be verified.

Burden statement: The average cost per response is $10,476. Burden is defined in 5 CFR 1320.3(b).

The ICR, which is available in the docket along with other related materials, provides a detailed explanation of the collection activities and the burden estimate that is only briefly summarized here:

Estimated total number of potential respondents: 12 companies.

Frequency of response: On occasion.

Estimated total average number of responses for each respondent: 1 or 2 submissions by each company.

Estimated total annual costs: $73,000. There are no costs for capital investment or maintenance and operational costs.

III. What is the next step in the process for this ICR?

EPA will consider the comments received and amend the ICR as appropriate. The final ICR package will then be submitted to OMB for review and approval pursuant to 5 CFR 1320.12. EPA will issue another Federal Register notice pursuant to 5 CFR 1320.5(a)(1)(iv) to announce the submission of the ICR to OMB and the opportunity to submit additional comments to OMB. If you have any questions about this ICR or the approval process, please contact the person listed under FOR FURTHER INFORMATION CONTACT.

List of Subjects

Environmental protection, Reporting and recordkeeping requirements.

Dated: November 5, 2012.
James Jones,
Assistant Administrator, Office of Chemical Safety and Pollution Prevention.

[FR Doc. 2012-28208 Filed 11-20-12; 8:45 am]

BILLING CODE 6560-50-P